DEPARTMENT OF HOMELAND SECURITY

Coast Guard

33 CFR Part 165

[COTP Tampa 03-006]

RIN 1625-AA00

Security Zones; Tampa Bay, Port of Tampa, Port of Saint Petersburg, Port Manatee, Rattlesnake, Old Port Tampa, Big Bend, Weedon Island, and Crystal River, FL

AGENCY: Coast Guard, DHS.

ACTION: Temporary final rule.

SUMMARY: The Coast Guard is establishing security zones in Tampa Bay, Port of Tampa, Port of Saint Petersburg, Port Manatee, Rattlesnake, Old Port Tampa, Big Bend, Weedon Island, and Crystal River, Florida. These zones are needed to ensure public safety and security in the greater Tampa Bay area. Entry into these zones would be prohibited unless authorized by the Captain of the Port, or their designated representative.

DATES: This rule is effective from March 7, 2003 through June 30, 2003.

ADDRESSES: Comments and material received from the public, as well as documents indicated in this preamble as being available in the docket, are part of docket [COTP Tampa 03-006] and are available for inspection or copying at Marine Safety Office Tampa, 155 Columbia Drive, Tampa, Florida 33606-3598 between 7:30 a.m. and 3 p.m. Monday through Friday, except Federal holidays.

FOR FURTHER INFORMATION CONTACT: LCDR David McClellan, Coast Guard Marine Safety Office Tampa, at (813) 228-2189 extension 102.

SUPPLEMENTARY INFORMATION:

Regulatory Information

We did not publish a notice of proposed rulemaking (NPRM) for this regulation. Under 5 U.S.C. 553(b)(B), the Coast Guard finds that good cause exists for not publishing an NPRM. Publishing an NPRM and delaying the effective date of this rule would be contrary to the public interest since immediate action is needed to continue to protect the public, ports and waterways of the United States. The Coast Guard will issue a broadcast notice to mariners and place Coast Guard vessels in the vicinity of these zones to advise mariners of the restriction.

For the same reasons, under 5 U.S.C. 553(d)(3), the Coast Guard finds that good cause exists for making this rule effective less than 30 days after publication in the Federal Register. The Coast Guard will issue a broadcast notice to mariners to advise mariners of the restriction. The Coast Guard will publish a NPRM proposing a permanent rule for security zones in these same locations and requesting public comment.

Background and Purpose

The terrorist attacks of September 11, 2001, killed thousands of people and heightened the need for development of various security measures throughout the seaports of the United States, particularly those vessels and facilities which are frequented by foreign nationals and are of interest to national security. Following these attacks by well-trained and clandestine terrorists, national security and intelligence officials have warned that future terrorists attacks are likely. The Captain of the Port of Tampa has determined that these security zones are necessary to protect the public, ports, and waterways of the United States from potential subversive acts.

These security zones are similar to the existing temporary security zones established for vessels, waterfront facilities and bridges that will soon expire. The following seven existing temporary final rules were published in the Federal Register:

Security Zone for Crystal River, FL (66 FR 62940, December 4, 2001). This temporary rule created a fixed security zone around the Florida Power Crystal River nuclear power plant located at the end of the Florida Power Corporation Channel and the Demory Gap Channel, Crystal River, Florida.

Security Zone for Sunshine Skyway Bridge, Tampa, FL (66 FR 65838, December 21, 2001). This temporary rule created temporary fixed security zones 100 feet around all bridge supports and rocky outcroppings at the base of the supports for the Sunshine Skyway Bridge in Tampa Bay.

Security Zone Tampa, FL (67 FR 8196, February 22, 2002). This temporary rule created security zones 100 yards around moored vessels carrying or transferring Liquefied Petroleum Gas (LPG), Anhydrous Ammonia (NH3) and/or grade “A” and “B” flammable liquid cargo.

Security Zone Cruise Ships Tampa, FL (67 FR 10618, March 8, 2002). This temporary rule created security zones 100 yards around cruise ships moored in the Port of Tampa.

Security Zone St. Petersburg Harbor, FL (67 FR 36098, May 23, 2002). This temporary rule established fixed security zones 100 feet around seawalls, moorings, and vessels at Coast Guard and waterfront facilities and moorings in St. Petersburg Harbor, FL.

Security Zone, Port of Tampa, Tampa, FL (67 FR 40861; June 14, 2002). This temporary zone created a security zone 50 yards from the shore or seawall and encompassing all piers around facilities in the following locations: Port Sutton, East Bay, Hooker's Point, Sparkman Channel, Ybor Channel and portions of Garrison Channel. Also, Port Sutton Channel is closed.

Security Zones Tampa Bay and Crystal River, FL (67 FR 42483, June 24, 2002). This temporary rule established 10 security zones in Tampa Bay, Tampa, Florida, and Crystal River, Florida until October 31, 2002.

On October 30, 2002, the Captain of the Port issued a temporary final rule [COTP TAMPA-02-131] continuing security zones in these areas until 11:59 p.m. February 28, 2003. And on January 10, 2003, the COTP published a notice of proposed rulemaking for permanent security zones in these and other areas (68 FR 7093). The comment period on that proposed rule is open until April 14, 2003.

Discussion of Rule

This temporary rule establishes security zones in areas covered by past temporary rules to ensure consistent security of facilities, vessels, and infrastructure throughout the Tampa Captain of the Port Zone. There are changes, however, from previous security zones:

The coordinates of the security zone for Crystal River, FL have been changed because the original coordinates did not accurately match the intended security zone.

The scope of the security zone around the Sunshine Skyway Bridge, Tampa, FL, has been reduced to allow for fishing in portions of the zone. The zone extends from pier 88 to 135 and out 100 feet from bridge supports or rocky outcroppings at the base of the bridge.

The security zones for moored vessels carrying or transferring Liquefied Petroleum Gas (LPG), Anhydrous Ammonia (NH3) and/or grade “A” and “B” flammable liquid cargo requires any vessel transiting within 200 yards of moored vessels carrying or transferring Liquefied Petroleum Gas (LPG), Anhydrous Ammonia (NH3) and/or grade “A” and “B” cargo must proceed through the area at the minimum speed necessary to maintain safe navigation. These security zones exclude entry within 100 yards of tank vessels carrying the specified cargoes moored in Port Tampa.

The security zones around moored cruise ships in Tampa, FL have been expanded to include moored cruise ships in Port Manatee and Port Saint Petersburg. Additionally, the Coast Guard intends to change this security zone by adding that any vessel transiting within 200 yards of a moored cruise ship must proceed through the area at the minimum speed necessary to maintain safe navigation. These security zones exclude entry within 100 yards of moored cruise ships in Port Tampa, located in Ybor Channel, Ybor Turning Basin, and East Bay, ships in Port Manatee, or Saint Petersburg Harbor (Bayboro Harbor).

The security zone in St. Petersburg Harbor, FL has been extended from 100 feet from seawalls, moorings, and moored vessels to 50 yards to be the same as other security zones in the bay protecting similar infrastructure. The security zone has also been expanded on its northern boundary to the west to include Port of Saint Petersburg Cruise Ship Terminal. The coordinates of the security zone for St. Petersburg Harbor, FL have also been corrected because the original coordinates did not accurately match the intended security zone. This zone covers north and south Coast Guard moorings and facilities and Saint Peterburg Cruise Ship Terminals.

The 50 yard zones around piers and facilities in Port Tampa, Port Sutton, East Bay, Hooker's Point, Hillsborough Bay Cut “C”, Sparkman Channel, Ybor Turning Basin, and Ybor Channel have been extended to include northern reaches of Ybor Channel and Cruise Terminals 3 and 6. The coordinates of the security zone have also been changed because the original coordinates did not accurately match the intended security zone.

The security zone around moving cruise ships, Tampa, FL, has been expanded to 200 yards, allowing vessels to transit the outer 100 yards of the zone but requiring transiting vessels to proceed at minimum speed to maintain safe navigation. This change matches safety zone requirements for moored cruise ships. These zones will be in place from the “T” Sea Buoy to berth on an inbound transit and from berth to the “T” Sea Buoy on outbound transits.

A new security zone has been created restricting entrance to the immediate area surrounding the LPG facility and the pier at Rattlesnake, Tampa, FL. The security zone commences at position 27°53.32′ N, 082°32.05′ W and extends north to 27°53.36′ N, 082°32.05′ W encompassing all waters east and south of this line in Rattlesnake, Tampa, Florida.

A new security zone has been created restricting entrance to the channel servicing the petroleum facilities and piers at Old Port Tampa, FL. The security zone is bounded by the following points: 27°51.62′ N, 082°33.14′ W east to 27°51.71′ N, 082°32.5′ W north to 27°51.76′ N, 082°32.5′ W west to 27°51.73′ N, 082°33.16′ W and south to 27°51.62′ N, 082°33.14′ W closing off the Old Port Tampa channel.

A new security zone has been created restricting access to the Big Bend Power Facility. The security zone extends 50 yards from the shore or seawall and from all piers around facilities. The security zone is bounded by the following points: 27°47.85′ N, 082°25.02′ W then east and south along the shore and pile to 27°47.63′ N, 082°24.70′ W then north along the shore to 27°48.17′ N, 082°24.70′ W then north and west along a straight line to 27°48.12′ N, 082°24.88′ W, then south along the shore and pile to 27°47.85′ N, 082°25.02′ W closing off the entrance to the Big Bend Power Facility.

A new security zone has been created restricting access to the Power Facility at Weedon Island. The security zone extends 50 yards from the shore or seawall and from all piers around facilities. The security zone is bounded by the following points: 27°51.52′ N, 082°35.82′ W then north and east along the shore to 27°51.54′ N, 082°35.78′ W then north to 27°51.68′ N, 082°35.78′ W then north to 27°51.75′ N, 082°35.78′ W closing off entrance to the canal then north to 27°51.89′ N, 082°35.82′ W then east along the shore to 27°51.89′ N, 082°36.10′ W then east to 27°51.89′ N, 082°36.14′ W closing off entrance to the canal.

Regulatory Evaluation

This rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Homeland Security.

We expect the economic impact of this rule to be so minimal that a full Regulatory Evaluation is unnecessary because there is ample room for vessels to navigate around the security zones and the Captain of the Port may allow vessels to enter the zones, on a case-by-case basis with the express permission of the Captain of the Port of Tampa or their designated representative.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule would not have a significant economic impact on a substantial number of small entities because the majority of the zones are limited in size and leave ample room for vessels to navigate around the zones. The zones will not significantly impact commuter and passenger vessel traffic patterns, and vessels may be allowed to enter the zones, on a case-by-case basis, with the express permission of the Captain of the Port of Tampa or their designated representative.

If you think that your business, organization, or governmental jurisdiction qualifies as a small entity and that this rule would have a significant economic impact on it, please submit a comment (see ADDRESSES) explaining why you think it qualifies and how and to what degree this rule would economically effect it.

Assistance for Small Entities

Under section 213(a) of the Small Business Regulatory Enforcement Fairness Act of 1996 (Pub. L. 104-121), we want to assist small entities in understanding this rule so that they can better evaluate its effects on them and participate in the rulemaking. If the rule would effect your small business, organization, or governmental jurisdiction and you have questions concerning its provisions or options for compliance, please contact the person listed under FOR FURTHER INFORMATION CONTACT for assistance in understanding this rule. Small businesses may send comments on the actions of Federal employees who enforce, or otherwise determine compliance with Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule would call for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Although this rule would not result in such an expenditure, we do discuss the effects of this rule elsewhere in this preamble.

Taking of Private Property

This rule would not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and would not create an environmental risk to health or risk to safety that might disproportionately effect children.

Indian Tribal Governments

This rule does not have tribal implications under Executive Order 13175, Consultation and Coordination with Indian Tribal Governments, because it would not have a substantial direct effect on one or more Indian tribes, on the relationship between the Federal Government and Indian tribes, or on the distribution of power and responsibilities between the Federal Government and Indian tribes. We invite your comments on how this rule might impact tribal governments, even if that impact may not constitute a “tribal implication” under the Order.

Energy Effects

We have analyzed this rule under Executive Order 13211, Actions Concerning Regulations That Significantly Effect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Environment

We have considered the environmental impact of this rule and concluded that, under figure 2-1, paragraph (34)(g), of Commandant Instruction M16475.lD, this rule is categorically excluded from further environmental documentation. A “Categorical Exclusion Determination” is available in the docket where indicated under ADDRESSES.

List of Subjects in 33 CFR Part 165

Harbors, Marine safety, Navigation (water), Reporting and record keeping requirements, Security measures, Waterways.

For the reasons discussed in the preamble, the Coast Guard proposes to amend 33 CFR part 165 as follows:

PART 165—REGULATED NAVIGATION AREAS AND LIMITED ACCESS AREAS

1. The authority citation for part 165 is revised to read as follows:

Authority: 33 U.S.C. 1231; 50 U.S.C. 191; 33 CFR 1.05-1(g), 6.04-1, 6.04-6, and 160.5; Department of Homeland Security Delegation No. 0170.

2. Add § 165.T07-006 to read as follows:

§ 165.T07-006 Security Zones; Tampa Bay, Port of Tampa, Port of Saint Petersburg, Port Manatee, Rattlesnake, Old Port Tampa, Big Bend, Weedon Island, and Crystal River, Florida.

(a) Location. The following areas, denoted by coordinates fixed using the North American Datum of 1983 (World Geodetic System 1984), are security zones:

(1) Rattlesnake, Tampa, FL. All waters, from surface to bottom, in Old Tampa Bay east and south of a line commencing at position 27°53.32′ N, 08°32.05′ W north to 27°53.36′ N, 082°32.05′ W.

(2) Old Port Tampa, Tampa, FL. All waters, from surface to bottom, in Old Tampa Bay encompassed by a line connecting the following points: 27°51.62′ N, 082°33.14′ W east to 27°51.71′ N, 082°32.5′ W north to 27°51.76′ N, 082°32.5′ W west to 27°51.73′ N, 082°33.16′ W and south to 27°51.62′ N, 082°33.14′ W, closing off the Old Port Tampa channel.

(3) Sunshine Skyway Bridge, Tampa, FL. All waters in Tampa Bay, from surface to bottom, 100-foot around all bridge supports, dolphins and rocky outcroppings bounded on the northern side of the bridge at pier 135, (24 N), 27°37.85′ N, 082°39.78′ W, running south under the bridge to pier 88, (24 S) 27°36.59′ N, 082°38.86′ W. Visual identification of the zone can be defined as to the areas to the north and south where the bridge structure begins a distinct vertical rise.

(4) Vessels Carrying Hazardous Cargo, Tampa, FL. All waters, from surface to bottom, 200 yards around vessels moored in Tampa Bay carrying or transferring Liquefied Petroleum Gas (LPG), Anhydrous Ammonia (NH3) and/or grade “A” and “B” flammable liquid cargo. Any vessel transiting within the outer 100 yards of the zone for moored vessels carrying or transferring Liquefied Petroleum Gas (LPG), Anhydrous Ammonia (NH3) and/or grade “A” and “B” cargo may operate unless otherwise directed by the Captain of the Port or his designee but must proceed through the area at the minimum speed necessary to maintain safe navigation. No vessel may enter the inner 100-yard portion of the security zone closest to the vessel.

(5) Piers, Seawalls, and Facilities, Port of Tampa, Port Sutton and East Bay. All waters, from surface to bottom, extending 50 yards from the shore, seawall and piers around facilities in Port Sutton and East Bay within the Port of Tampa encompassed by a line connecting the following points: 27°54.15′ N, 082°26.11′ W, east northeast to 27°54.19′ N, 082°26.00′ W, then northeast to 27°54.37′ N, 082°25.72′ W, then northerly to 27°54.48′ N, 082°25.70′ W, then northeast and closing off waters east of a line between 27°54.52′ N, 082°25.57′ W, and 27°54.57′ N, 082°25.53′ W then northeasterly and terminating at point 27°55.27‘ N, 082°25.17′ W, closing off all of Port Sutton Channel.

(6) Piers, Seawalls, and Facilities, Port of Tampa, East Bay and the eastern side of Hooker's Point. All waters, from surface to bottom, extending 50 yards from the shore, seawall and piers around facilities on East Bay and on the East Bay Channel within the Port of Tampa encompassed by a line connecting the following points: 27°56.05′ N, 082°25.95′ W, southwesterly to 27°56.00′ N, 082°26.07′ W, then southerly to 27°55.83′ N, 082°26.07′ W, then southeasterly to 27°55.55′ N, 082°25.75′ W, then south to 27°54.75′ N, 082°25.75′ W, then southwesterly and terminating at point 27°54.57′ N, 082°25.86′ W.

(7) Piers, Seawalls, and Facilities, Port of Tampa, on the western side of Hooker's Point. All waters, from surface to bottom, extending 50 yards from the shore, seawall and piers around facilities on Hillsborough Bay Cut “D” Channel, Sparkman Channel, Ybor Turning Basin, and Ybor Channel within the Port of Tampa encompassed by a line connecting the following points: 27°54.74′ N, 082°26.47′ W, northwest to 27°55.25′ N, 082°26.73′ W, then north-northwest to 27°55.60′ N, 082°26.80′ W, then north-northeast to 27°56.00′ N, 082°26.75′ W, then northeast 27°56.58′ N, 082°26.53′ W, and north to 27°57.29′ N, 082°26.51′ W, west to 27°57.29′ N, 082°26.61′ W, then southerly to 27°56.65′ N, 082°26.63′ W, southwesterly to 27°56.58′ N, 082°26.69′ W, then southwesterly and terminating at 27°56.53′ N, 082°26.90′ W.

(8) Piers, Seawalls, and Facilities, Port of Manatee. All waters, from surface to bottom, within the Port of Manatee extending 50 yards from the shore, seawall and piers around facilities. This security zone encompasses all piers and seawalls of the cruise terminal berths 9 and 10 in Port Manatee, Florida beginning at 27°38.00′ N, 082°33.81′ W continuing east to 27°38.00′ N, 082°33.53′ W.

(9) Moving Cruise Ships in the Port of Tampa, Port of Saint Petersburg, and Port Manatee, Florida. All waters, from surface to bottom, extending 200 yards around all cruise ships entering or departing Port of Tampa, Port of Saint Petersburg, or Port Manatee, Florida. These temporary security zones are activated on the inbound transit when a cruise ship passes the Tampa Lighted Whistle Buoy “T”, located at 27°35.35′ N, 083°00.71′ W and terminate when the vessel is moored at a cruise ship terminal. The security zones are activated on the outbound transit when a cruise ship gets underway from a terminal and terminates when the cruise ship passes the Tampa Lighted Whistle Buoy “T”, located at 27°35.35′ N, 083°00.71′ W. Any vessel transiting within the outer 100 yards of the zone for a cruise ship may operate unless otherwise directed by the Captain of the Port or his designee but must proceed through the area at the minimum speed necessary to maintain safe navigation. No vessel may enter the inner 100-yard portion of the security zone closest to the vessel.

(10) Moored Cruise Ships in the Port of Tampa, Port of Saint Petersburg, and Port Manatee, Florida. All waters, from surface to bottom, extending 200 yards around moored cruise ships in the Ports of Tampa, Saint Petersburg, or Port Manatee, Florida. Any vessel transiting within the outer 100 yards of the zone of moored cruise ships may operate unless otherwise directed by the Captain of the Port or his designee but must proceed through the area at the minimum speed necessary to maintain safe navigation. No vessel may enter the inner 100-yard portion of the security zone closest to the vessel.

(11) Saint Petersburg Harbor, FL. All waters, from surface to bottom, extending 50 yards from the seawall and around all moorings and vessels in Saint Petersburg Harbor (Bayboro Harbor), commencing on the north side of the channel at dayboard “10” in approximate position 27°45.56′ N, 082°37.55′ W, and westward along the seawall to the end of the cruise terminal in approximate position 27°45.72′ N, 082°37.97′ W. The zone will also include the Coast Guard south moorings in Saint Petersburg Harbor. The zone will extend 50 yards around the piers commencing from approximate position 27°45.51′ N, 082°37.99′ W to 27°45.52′ N, 082°37.57′ W. The southern boundary of the zone is shoreward of a line between the entrance to Salt Creek easterly to Green Daybeacon 11 (LLN 2500).

(12) Crystal River Nuclear Power Plant. All waters, from surface to bottom, around the Florida Power Crystal River nuclear power plant located at the end of the Florida Power Corporation Channel, Crystal River, Florida, encompassed by a line connecting the following points: 28°56.87′ N, 082°45.17′ W (Northwest corner), 28°57.37′ N, 082°41.92′ W (Northeast corner), 28°56.81′ N, 082°45.17′ W (Southwest corner), and 28°57.32′ N, 082°41.92′ W (Southeast corner).

(13) Crystal River Demory Gap Channel. All waters, from surface to bottom, in the Demory Gap Channel in Crystal River, Florida, encompassed by a line connecting the following points: 28°57.61′ N, 082°43.42′ W (Northwest corner), 28°57.53′ N, 082°41.88′ W (Northeast corner), 28°57.60′ N, 082°43.42′ W (Southwest corner), 28°57.51′ N, 082°41.88′ W (Southeast corner).

(14) Big Bend, Tampa Bay, Florida. All waters of Tampa Bay, from surface to bottom, extending 50 yards from the shore, seawalls and piers around the Big Bend Power Facility, encompassed by a line connecting the following points: 27°47.85′ N, 082°25.02′ W then east and south along the shore and pile to 27°47.63′ N, 082°24.70′ W then north along the shore to 27°48.17′ N, 082°24.70′ W then north and west along a straight line to 27°48.12′ N, 082°24.88′ W then south along the shore and pile to 27°47.85′ N, 082°25.02′ W, closing off entrance to the Big Bend Power Facility.

(15) Weedon Island, Tampa Bay, Florida. All waters of Tampa Bay, from surface to bottom, extending 50 yards from the shore, seawall and piers around the Power Facility at Weedon Island encompassed by a line connecting the following points: 27°51.52′ N, 082°35.82′ W then north and east along the shore to 27°51.54′ N, 082°35.78′ W then north to 27°51.68′ N, 082°35.78′ W then north to 27°51.75′ N, 082°35.78′ W closing off entrance to the canal then north to 27°51.89′ N, 082°35.82′ W then east along the shore to 27°51.89′ N, 082°36.10′ W then east to 27°51.89′ N, 082°36.14′ W closing off entrance to the canal.

(b) Regulations. (1) Entry into or remaining within these zones is prohibited unless authorized by the Coast Guard Captain of the Port, Tampa, Florida or their designated representative.

(2) Persons desiring to transit the area of the security zone may contact the Captain of the Port at telephone number 813-228-2189/91 or on VHF channel 16 to seek permission to transit the area. If permission is granted, all persons and vessels must comply with the instructions of the Captain of the Port or their designated representative.

(c) Definition. As used in this section, “cruise ship” means a vessel required to comply with Title 33 Code of Federal Regulations Part 120.

(d) Authority. In addition to 33 U.S.C. 1231 and 50 U.S.C. 191, the authority for this section includes 33 U.S.C. 1226.

Dated: March 7, 2003.
James M. Farley,
Captain, Coast Guard, Captain of The Port, Tampa, Florida.

[FR Doc. 03-6982 Filed 3-24-03; 8:45 am]

BILLING CODE 4910-15-P